DEPARTMENT OF HEALTH AND HUMAN SERVICES

Centers for Disease Control and Prevention

[Program Announcement 04276]

Expansion of HIV/AIDS Surveillance, Monitoring and Evaluation, and Information Management Activities in the Republic of Honduras; Notice of Intent To Fund Single Eligibility Award

A. Purpose

The Centers for Disease Control and Prevention (CDC) announces the intent to fund fiscal year (FY) 2004 funds for a cooperative agreement program to increase the capacity, quality and coverage of HIV/AIDS-related Strategic Information activities undertaken by the Ministry of Health (MOH) as cornerstone components of an expanded national response to HIV/AIDS targeting highly vulnerable populations (HVPs) in the Republic of Honduras. In the context of Honduras, HVPs include prostitutes, men who have sex with men (MSM), persons living with HIV/AIDS (PLWHAs), prisoners, and members of the Garifuna and other ethnic groups. Strategic Information is defined as: programs and activities supporting the implementation of first and second generation epidemiological surveillance survey activities; systems for monitoring and evaluation of the impact of the multi-sectoral national response to HIV/AIDS; and strategic initiatives to improve infrastructure and systems supporting surveillance, prevention, care and treatment, laboratory and information management activities.

The Catalog of Federal Domestic Assistance number for this program is 93.941.

B. Eligible Applicant

Assistance will be provided only to the Ministry of Health (MOH) of the Republic of Honduras.

The Honduras MOH is charged by national law to oversee the national response to health problems that threaten the well being of the country's citizens, including HIV/AIDS. The MOH, as the entity responsible for public health in Honduras, has direct responsibility for overseeing surveillance and the monitoring and evaluation of the national response to HIV/AIDS and HIV-related conditions in the country. The MOH of Honduras has collaborated with HHS/CDC and USAID in the past, including collaborations related to the evaluation of surveillance and laboratory systems related to HIV/AIDS in 1999-2000.

C. Funding

Approximately $300,000 is available in FY 2004 to fund this award. It is expected that the award will begin on or before September 1, 2004, and will be made for a 12-month budget period within a project period of up to 3 years. Funding estimates may change.

D. Where To Obtain Additional Information

For general comments or questions about this announcement, contact: Technical Information Management, CDC Procurement and Grants Office, 2920 Brandywine Road, Atlanta, GA 30341-4146, Telephone: (770) 488-2700.

For technical questions about this program, contact: Edgar Monterroso/Mark Fussell, Co-Project Officers, HHS/CDC AE Guatemala Unit 3321, APO AA 34024, Telephone: (502) 369-0791, Ext 515, E-mail: em2z@cdc.gov or mfzz@cdc.gov.

Dated: July 27, 2004.
William P. Nichols, MPA,
Acting Director, Procurement and Grants Office, Centers for Disease Control and Prevention.

[FR Doc. 04-17483 Filed 7-30-04; 8:45 am]

BILLING CODE 4163-18-P